DEPARTMENT OF COMMERCE

National Oceanic and Atmospheric Administration

50 CFR Part 660

[Docket No. 100223162-1268-01]

RIN 0648-XA551

Fisheries Off West Coast States; Modifications of the West Coast Commercial and Recreational Salmon Fisheries; Inseason Actions #5 Through #26

AGENCY: National Marine Fisheries Service (NMFS), National Oceanic and Atmospheric Administration (NOAA), Commerce.

ACTION: Modification of fishing seasons and landing and possession limits; request for comments.

SUMMARY: NOAA Fisheries announces 22 inseason actions in the ocean salmon fisheries. These inseason actions modified the commercial and recreational fisheries in the area from the U.S./Canada Border to the U.S./Mexico Border.

DATES: The effective dates for the inseason action are set out in this document under the heading Inseason Actions. Inseason actions remain in effect until the closing date of the 2011 salmon season announced in the 2011 annual management measures or until modified by additional inseason action. Comments will be accepted through November 21, 2011.

ADDRESSES: You may submit comments, identified by NOAA-NMFS-2011-0171, by any one of the following methods:

• Electronic Submissions: Submit all electronic public comments via the Federal eRulemaking Portal http://www.regulations.gov. To submit comments via the e-Rulemaking Portal, first click the “submit a comment” icon, then enter NOAA-NMFS-2011-0171 in the keyword search. Locate the document you wish to comment on from the resulting list and click on the “Submit a Comment” icon on the right of that line.

• Mail: William W. Stelle, Jr., Regional Administrator, Northwest Region, NMFS, 7600 Sand Point Way NE., Seattle, WA 98115-6349.

• Fax: (206) 526-6736, Attn: Peggy Mundy.

Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information or otherwise sensitive or protected information. NMFS will accept anonymous comments (enter N/A in the required fields if you wish to remain anonymous). Attachments to electronic comments will be accepted in Microsoft Word, Excel, WordPerfect, or Adobe PDF file formats only.

FOR FURTHER INFORMATION CONTACT: Peggy Mundy at (206) 526-4323.

SUPPLEMENTARY INFORMATION:

Background

In the 2011 annual management measures for ocean salmon fisheries (76 FR 25246, May 4, 2011), NMFS announced the commercial and recreational fisheries in the area from the U.S./Canada Border to the U.S./Mexico Border, beginning May 1, 2011, and 2012 salmon seasons opening earlier than May 1, 2012.

NMFS is authorized to implement inseason management actions to modify fishing seasons and quotas as necessary to provide fishing opportunity while meeting management objectives for the affected species (50 CFR 660.409). Prior to taking inseason action, the Regional Administrator (RA) consults with the Chairman of the Pacific Fishery Management Council (Council) and the appropriate State Directors (50 CFR 660.409(b)(1)).

Management of the salmon fisheries is generally divided into two geographic areas: north of Cape Falcon (U.S./Canada Border to Cape Falcon, Oregon) and south of Cape Falcon (Cape Falcon, Oregon to the U.S./Mexico Border).

Inseason Actions

The table below lists the inseason actions announced in this document.

Inseason action No. | Effective date | Salmon fishery affected
5 | May 28, 2011 | Commercial fishery from U.S./Canada border to U.S./Mexico border.
6 | June 21, 2011 | Commercial fishery from U.S./Canada border to Cape Falcon, Oregon.
7 | July 15, 2011 | Commercial fishery from U.S./Canada border to Cape Falcon, Oregon.
8 | July 18, 2011 | Commercial fishery from Oregon/California border to Humboldt South Jetty, California.
9 | August 1, 2011 | Commercial fishery from Oregon/California border to Humboldt South Jetty, California.
10 | August 1, 2011 | Recreational fishery from Queets River, Washington to Leadbetter Point, Washington (Westport subarea).
11 | August 1, 2011 | Recreational fishery from U.S./Canada border to Cape Alava, Washington (Neah Bay subarea) and Cape Alava, Washington to Queets River, Washington (La Push subarea).
12 | July 29, 2011 | Commercial fishery from U.S./Canada border to U.S./Mexico border.
13 | August 2, 2011 | Commercial fishery from Oregon/California border to Humboldt South Jetty, California.
14 | August 7, 2011 | Recreational fishery from Queets River, Washington to Leadbetter Point, Washington (Westport subarea) and from Leadbetter Point, Washington to Cape Falcon, Oregon (Columbia River Subarea).
15 | August 12, 2011 | Commercial fishery from U.S./Canada border to Cape Falcon, Oregon.
16 | August 14, 2011 | Recreational fishery from Queets River, Washington to Leadbetter Point, Washington (Westport subarea) and from Leadbetter Point, Washington to Cape Falcon, Oregon (Columbia River Subarea).
17 | August 19, 2011 | Recreational fishery from U.S./Canada border to Cape Falcon, Oregon.
18 | August 19, 2011 | Recreational fishery from Queets River, Washington to Leadbetter Point, Washington (Westport subarea).
19 | August 19, 2011 | Commercial fishery from U.S./Canada border to Cape Falcon, Oregon.
20 | August 29, 2011 | Recreational fishery from U.S./Canada border to Cape Falcon, Oregon.
21 | August 27, 2011 | Commercial fishery from U.S./Canada border to Cape Falcon, Oregon.
22 | September 1, 2011 | Recreational fishery from Cape Falcon, Oregon to Humbug Mountain, Oregon.
23 | September 3, 2011 | Commercial fishery from U.S./Canada border to Cape Falcon, Oregon.
24 | August 31, 2011 | Recreational fishery from U.S./Canada border to Cape Alava, Washington (Neah Bay subarea) and from Cape Alava to Queets River, Washington (La Push subarea).
25 | September 5, 2011 | Recreational fishery from U.S./Canada border to Cape Falcon, Oregon.
26 | September 7, 2011 | Recreational fishery from Cape Falcon, Oregon to Humbug Mountain, Oregon.

Inseason Action #5

The RA consulted with representatives of the Council, International Pacific Halibut Commission (IPHC), Washington Department of Fish and Wildlife (WDFW), and Oregon Department of Fish and Wildlife (ODFW) on May 26, 2011. The information considered during this consultation related to catch to date for halibut incidentally caught in the commercial salmon fishery which was approaching the preseason allocation of halibut recommended by the IPHC (76 FR 14300, March 16, 2011).

Inseason action #5 closed retention of halibut caught incidentally in the ocean salmon commercial fishery from the U.S./Canada border to the U.S./Mexico border. This action was taken to prevent exceeding the preseason allocation. On May 26, 2011, the states recommended this action and the RA concurred; inseason action #5 took effect on May 28, 2011. This inseason action remained in effect until superseded by inseason action #12 which took effect on July 29, 2011. Modification of quota and/or fishing seasons is authorized by 50 CFR 660.409(b)(1)(i).

Inseason Action #6

The RA consulted with representatives of the Council, WDFW, and ODFW on June 20, 2011. The information considered during this consultation related to catch of Chinook salmon to date and Chinook salmon catch rates compared to quotas and other management measures established preseason for the commercial salmon fishery. The objectives for the May/June commercial salmon fishery north of Cape Falcon were to remain within the quota of 20,600 Chinook salmon and to allow the fishery to remain open through June, if possible, to maximize the value of the commercial harvest (50 CFR 660.408(c)(1)(ix)(B)). Catch rates to date suggested that, without taking inseason action to protract the fishery, the quota would be met prematurely.

Inseason action #6 closed the commercial salmon fishery from the U.S./Canada Border to Cape Falcon, Oregon at 11:59 p.m., June 21, 2011; and reopened the fishery at 12:01 a.m., June 23, 2011 through June 30, 2011, with an open period landing limit of 30 Chinook salmon per vessel. This action was taken to prevent exceeding the quota on Chinook salmon established preseason and to allow the fishery to meet the management objective of remaining open through June. On June 20, 2011, the states recommended this action and the RA concurred; inseason action #6 took effect on June 21, 2011. Modification of quota and/or fishing seasons is authorized by 50 CFR 660.409(b)(1)(i).

Inseason Action #7

The RA consulted with representatives of the Council, WDFW, and ODFW on July 14, 2011. The information considered during this consultation related to catch of Chinook and coho salmon to date and Chinook and coho salmon catch rates compared to quotas and other management measures established preseason for the commercial salmon fishery north of Cape Falcon. The objectives for this fishery were to remain within the 10,300 preseason Chinook salmon guideline and the 12,800 marked coho quota and to extend the season into September, if possible. The rate of catch to date suggested that, without inseason action, the Chinook salmon guideline would be harvested well ahead of the coho quota. This would potentially require closure of the commercial fishery well in advance of the September 15 objective and, therefore, prevent the commercial fishery from fully accessing the coho quota.

Inseason action #7 adjusted the open period landing limit from 50 Chinook and 50 coho per vessel to 30 Chinook and 50 coho per vessel. This action was taken to prevent exceeding the quota on Chinook salmon established preseason and to allow the fishery to meet the management objectives of remaining open throughout the summer and allow access to the coho salmon quota. On July 14, 2011, the states recommended this action and the RA concurred; inseason action #7 took effect on July 15, 2011. Modification of quota and/or fishing seasons is authorized by 50 CFR 660.409(b)(1)(i).

Inseason Actions #8 and #9

The RA consulted with representatives of the Council, ODFW, and California Department of Fish and Game (CDFG) on July 18, 2011 and July 28, 2011. The information considered during these consultations related to catch of Chinook salmon to date and Chinook salmon catch rates compared to quotas and other management measures established preseason for the commercial salmon fishery in the Klamath Management Zone (KMZ). This fishery had a July quota of 1,400 Chinook salmon. At the time of the consultation on July 18, 1,462 Chinook were known to have been harvested in this fishery. The management measures established preseason did not allow transfer of quota from the August fishery to the July fishery to accommodate exceeding the July quota. Chinook harvested in excess of the July quota would have to be accounted for by modifying the August quota. At the time of the follow-up consultation on July 28, the estimated harvest in the July fishery was 1,564. Because harvest exceeded the quota for the July fishery, the Salmon Technical Team (STT) was asked to calculate the impact neutral ¹ adjustment for the August quota; that adjustment reduced the August quota established preseason from 1,000 Chinook to 880 Chinook.

¹ Impact neutral: Inseason transfers of quota alter the timing and location of catch from what was projected preseason; therefore, a one-to-one transfer is not appropriate and the transfer must be re-modeled by the STT to determine an impact neutral basis, which is a catch level that produces the same fishery mortality on the most constraining stock in the fishery as projected during the preseason management process.

Inseason action #8 closed the commercial salmon fishery from Oregon/California border to Humboldt South Jetty (California KMZ) at 11:59 p.m. (midnight), July 18, 2011. This action was taken due to projected attainment of the quota for this fishery. On July 18, 2011, the states and the RA consulted on this action. Automatic closure of a fishery due to projected attainment of quota is authorized by 50 CFR 660.409(a)(1).

Inseason action #9 adjusted the quota for the August commercial salmon fishery in the California KMZ and modified the season and landing limit to August 1 through August 5 with a daily landing limit of 30 Chinook salmon per vessel. This action was taken to meet the management objectives established preseason, specifically to keep harvest within the established quotas. On July 28, 2011, the states recommended this action and the RA concurred; inseason action #9 took effect on August 1, 2011 and remained in effect until superseded by inseason action #13, which took effect on August 2, 2011. Modification of quota and/or fishing seasons is authorized by 50 CFR 660.409(b)(1)(i).

Inseason Actions #10 and #11

The RA consulted with representatives of the Council, WDFW, and ODFW on July 28, 2011. The information considered during this consultation related to catch of Chinook and coho salmon to date and Chinook salmon catch rates compared to quotas and other management measures established preseason for the recreational salmon fishery north of Cape Falcon, Oregon. At the time of the consultation, Chinook salmon catch rates were projected to result in unutilized quota if no action was taken to modify the open periods and landing limits.

Inseason action #10 modified the recreational fishery from Queets River to Leadbetter Point (Westport Subarea) from 5 days per week (Sunday through Thursday) to 7 days per week, consistent with the subareas north and south of Westport. Inseason action #11 modified the landing limits in the recreational fishery from U.S./Canada Border to Cape Alava (Neah Bay Subarea) and from Cape Alava to Queets River (La Push Subarea) to allow retention of 2 Chinook salmon per angler per day. These actions were taken to allow the recreational fishery greater access to available Chinook salmon. On July 28, 2011, the states recommended these actions and the RA concurred; inseason actions #10 and #11 took effect on August 1, 2011. Inseason action #10 remained in effect until superseded by inseason action #18 which took effect on August 19, 2011. Inseason action #11 remained in effect until superseded by inseason action #20 which took effect on August 29, 2011. Modification of quota and/or fishing seasons is authorized by 50 CFR 660.409(b)(1)(i). Modification of recreational bag limits is authorized by 50 CFR 660.409(b)(1)(iii).

Inseason Action #12

The RA consulted with representatives of the Council, IPHC, WDFW, and ODFW on July 28, 2011. The information considered during this consultation related to catch of halibut and Chinook salmon to date and Chinook salmon catch rates compared to quotas and other management measures established preseason. As discussed above, inseason action #5 closed retention of halibut caught incidental to the commercial salmon fishery, effective May 28, 2011. Updated catch statistics presented by the states determined that a modest amount of halibut quota remained unharvested, amounting to somewhat less than 3,000 pounds of halibut (landed, head-on) or approximately 118 to 148 halibut.

Inseason action #12 re-opened incidental halibut retention in the commercial salmon fishery with a landing limit of 1 halibut per vessel for each 7 consecutive days, Friday through Thursday. On July 28, 2011, the states recommended this action and the RA concurred; inseason action #12 took effect on July 29, 2011. Modification of quota and/or fishing seasons is authorized by 50 CFR 660.409(b)(1)(i).

Inseason Action #13

The RA consulted with representatives of the Council, ODFW, and CDFG on August 2, 2011. The information considered during this consultation related to catch of Chinook salmon to date and Chinook salmon catch rates compared to quotas and other management measures established preseason for the commercial salmon fishery in the Klamath Management Zone (KMZ). The quota, landing limit, and duration of this fishery were modified under inseason action #9 to mitigate the impact of exceeding the July quota; the modified August quota was 880 Chinook salmon, the modified season was August 1 through August 5 with a daily landing limit of 30 Chinook salmon per vessel. In the first day of this fishery, estimated landings totaled 325 Chinook salmon, leaving only 555 Chinook. The STT was of the opinion that catch rates were not likely to decrease during this short fishery, and stable or increasing catch rates would result in exceeding the quota. Additional inseason action was necessary to avoid exceeding the quota for the August fishery.

Inseason action #13 closed the commercial salmon fishery from Oregon/California border to Humboldt South Jetty (California KMZ) at 11:59 p.m. (midnight), August 2, 2011. This action was taken due to projected attainment of the quota for this fishery. On August 2, 2011, the states and the RA consulted on this action. Automatic closure of a fishery due to projected attainment of quota is authorized by 50 CFR 660.409(a)(1).

Inseason Action #14

The RA consulted with representatives of the Council, WDFW, and ODFW on August 3, 2011. The information considered during this consultation related to catch of Chinook and coho salmon to date and Chinook salmon catch rates compared to quotas and other management measures established preseason for the recreational salmon fishery north of Cape Falcon, Oregon. Due to reduced fishing effort as compared with last year, Chinook salmon catch was lower than anticipated preseason.

Inseason action #14 modified the daily bag limit in the recreational fishery from Queets River to Leadbetter Point (Westport subarea) and from Leadbetter Point to Cape Falcon (Columbia River subarea) to allow retention of 2 Chinook salmon per angler per day. This action was taken to allow recreational fisheries access to available Chinook salmon. On August 3, 2011, the states recommended this action and the RA concurred; inseason action #14 took effect on August 7, 2011 and remained in effect until superseded by inseason action #16, which took effect on August 14, 2011. Modification of recreational bag limits is authorized by 50 CFR 660.409(b)(1)(iii).

Inseason Action #15

The RA consulted with representatives of the Council, WDFW, and ODFW on August 11, 2011. The information considered during this consultation related to catch of Chinook and coho salmon to date and Chinook salmon catch rates compared to quotas and other management measures established preseason for the commercial salmon fishery north of Cape Falcon, Oregon. The management objectives for the summer commercial fishery were to fully utilize the allowable catch of Chinook and coho salmon while not exceeding the quota, and to provide opportunity for salmon harvest into September. At the time of the consultation on August 11, increased participation in the fishery had resulted in increased landings, with the result that 90 percent of the Chinook guideline had been harvested; therefore, inseason action was necessary to stay within the Chinook salmon guideline set preseason.

Inseason action #15 suspended the commercial fishery, north of Cape Falcon, scheduled to be open August 12 through August 16. This action was taken to avoid exceeding the Chinook salmon guideline while managers determined exactly how much allowable Chinook salmon catch remained. On August 11, 2011, the states recommended this action and the RA concurred; inseason action #15 took effect on August 12, 2011 and remained in effect until superseded by inseason action #19, which was effective on August 19, 2011. Modification of quota and/or fishing seasons is authorized by 50 CFR 660.409(b)(1)(i).

Inseason Action #16

The RA consulted with representatives of the Council, WDFW, and ODFW on August 12, 2011. The information considered during this consultation related to catch of Chinook and coho salmon to date and Chinook salmon catch rates compared to quotas and other management measures established preseason for the recreational salmon fishery north of Cape Falcon, Oregon. Recent upsurge in effort and catch per unit effort in the Westport subarea resulted in accelerated harvest that threatened to utilize the available Chinook salmon ahead of the management objective to allow recreational fishing into September.

Inseason action #16 modified the daily landing limit for the recreational fishery from Queets River to Leadbetter Point (Westport subarea) and from Leadbetter Point to Cape Falcon (Columbia River subarea) to allow retention of two salmon per angler per day, only one of which could be a Chinook salmon. On August 12, 2011, the states recommended this action and the RA concurred; inseason action #16 took effect on August 14, 2011. Modification of recreational bag limits is authorized by 50 CFR 660.409(b)(1)(iii).

Inseason Actions #17 and #18

The RA consulted with representatives of the Council, WDFW, and ODFW on August 16, 2011. The information considered during this consultation related to catch of Chinook and coho salmon to date and Chinook salmon catch rates compared to quotas and other management measures established preseason for the recreational salmon fishery north of Cape Falcon, Oregon. The spring recreational fishery ended June 25 with a remaining quota of 2,500 mark-selective Chinook salmon unharvested; the STT calculated that unutilized spring quota would be equivalent to 1,200 non-mark-selective Chinook salmon in the summer fishery and should be distributed proportionally among the four subareas. Even with the additional quota, without further inseason adjustment, the Westport subarea was at risk of exceeding its allowable catch of Chinook salmon.

Inseason action #17 rolled-over unutilized Chinook salmon quota from the spring recreational fishery north of Cape Falcon to the summer recreational fishery on an impact neutral basis, and distributed the adjusted quota proportionally among the four subareas as follows: Columbia River (+310 Chinook), Westport (+700 Chinook), La Push (+60 Chinook), and Neah Bay (+130 Chinook). This action was taken to allow fishing opportunity on unutilized quota.

Inseason action #18 modified the recreational fishery in the Westport subarea (Queets River to Leadbetter Point) by limiting fishing to Sunday through Thursday. This action superseded inseason action #10, which took effect August 1, 2011. This action was taken to prevent the Westport subarea from exceeding its allowable catch of Chinook salmon.

On August 16, 2011, for inseason actions #17 and #18, the states recommended these actions and the RA concurred; both inseason actions took effect on August 19, 2011. Modification of quota and/or fishing seasons is authorized by 50 CFR 660.409(b)(1)(i).

Inseason Action #19

The RA consulted with representatives of the Council, WDFW, and ODFW on August 17, 2011. The information considered during this consultation related to catch of Chinook and coho salmon to date and Chinook salmon catch rates compared to quotas and other management measures established preseason for the commercial salmon fishery north of Cape Falcon, Oregon. The management objectives for the summer commercial fishery were to fully utilize the allowable catch of Chinook and coho salmon while not exceeding the quota, and to provide opportunity for salmon harvest into September. Inseason action #15 suspended the commercial salmon fishery north of Cape Falcon on August 12. Consultation on August 17 indicated 1,070 Chinook salmon remained from the guideline set preseason.

Inseason action #19 provided a one-day opening of the commercial salmon fishery from the U.S./Canada border to Cape Falcon, Oregon on Friday, August 19, 2011, with a landing limit of 12 Chinook and 50 coho per vessel. On August 17, 2011, the states recommended this action and the RA concurred. Modification of quota and/or fishing seasons is authorized by 50 CFR 660.409(b)(1)(i).

Inseason Action #20

The RA consulted with representatives of the Council, WDFW, and ODFW on August 23, 2011. The information considered during this consultation related to catch of Chinook and coho salmon to date and Chinook salmon catch rates compared to quotas and other management measures established preseason for the recreational salmon fishery north of Cape Falcon, Oregon. With limited Chinook salmon remaining to be caught, the management concern was to keep the fishery open to access available coho quota.

Inseason action #20 modified the recreation salmon fishery from the U.S./Canada border to Cape Falcon, Oregon to allow fishing seven days per week with no retention of Chinook salmon, effective August 29, 2011. On August 23, 2011, the states recommended this action and the RA concurred. Modification of quota and/or fishing seasons is authorized by 50 CFR 660.409(b)(1)(i). Modification of recreational bag limits is authorized by 50 CFR 660.409(b)(1)(iii).

Inseason Action #21

The RA consulted with representatives of the Council, WDFW, and ODFW on August 24, 2011. The information considered during this consultation related to catch of Chinook and coho salmon to date and Chinook salmon catch rates compared to quotas and other management measures established preseason for the commercial salmon fishery north of Cape Falcon, Oregon. The management objective for this fishery is to fully access the available coho quota while not exceeding the available Chinook salmon guideline.

Inseason action #21 provided a three-day opening of the commercial salmon fishery from the U.S./Canada border to Cape Falcon, Oregon, from August 27 through August 29, 2011, with a landing limit of 12 Chinook and 75 coho per vessel. On August 24, 2011, the states recommended this action and the RA concurred. Modification of quota and/or fishing seasons is authorized by 50 CFR 660.409(b)(1)(i).

Inseason Action #22

The RA consulted with representatives of the Council, ODFW, and CDFG on August 25, 2011. The information considered during this consultation related to catch of coho salmon to date and coho salmon catch rates compared to quotas and other management measures established preseason for the recreational salmon fishery south of Cape Falcon. The 2011 salmon management measures (76 FR 25246, May 4, 2011) specified that any remainder of the mark selective coho quota from the July-August fishery would be transferred on an impact neutral basis to the September non-selective coho quota. The STT calculated the transfer would add 2,959 coho to the September quota, resulting in an adjusted quota of 5,959 coho for September. The management objective for this fishery is to allow access to all available quota.

Inseason action #22 modified the recreational salmon fishery from Cape Falcon to Humbug Mountain, Oregon, opening the non-mark-selective coho fishery September 1 through September 10, 2011 or until attainment of the adjusted quota of 5,959 coho, all salmon, two fish per day. On August 25, 2011, the states recommended this action and the RA concurred. Modification of quota and/or fishing seasons is authorized by 50 CFR 660.409(b)(1)(i). Modification of recreational bag limits is authorized by 50 CFR 660.409(b)(1)(iii).

Inseason Action #23

The RA consulted with representatives of the Council, WDFW, and ODFW on August 31, 2011. The information considered during this consultation related to catch of Chinook and coho salmon to date and Chinook salmon catch rates compared to quotas and other management measures established preseason for the commercial salmon fishery north of Cape Falcon, Oregon. At the time of the consultation a modest quantity of Chinook salmon remained available, as well as a significant amount of the coho quota. The management objective for this fishery was to access fully the available coho quota while not exceeding the available Chinook salmon guideline.

Inseason action #23 provided two four-day openings of the commercial salmon fishery from the U.S./Canada border to Cape Falcon, Oregon, from September 3 through September 6, 2011 and from September 10 through September 13, 2011, with a landing limit of 20 Chinook and 100 coho per vessel. On August 31, 2011, the states recommended this action and the RA concurred. Modification of quota and/or fishing seasons is authorized by 50 CFR 660.409(b)(1)(i).

Inseason Actions #24 and #25

The RA consulted with representatives of the Council, WDFW, and ODFW on August 31, 2011. The information considered during this consultation related to catch of Chinook and coho salmon to date and Chinook salmon catch rates compared to quotas and other management measures established preseason for the recreational salmon fishery north of Cape Falcon, Oregon. Management objectives are to fully access available coho quota without exceeding the Chinook guideline and to keep the recreational fisheries open through the Labor Day holiday (50 CFR 660.408(h)(3)). Taken as a whole, the north of Cape Falcon recreational fishery had sufficient coho to remain open; one subarea, La Push, had almost exhausted its coho quota. At the time of the consultation, it was estimated that 2,721 Chinook remained available for harvest.

Inseason action #24 transferred unutilized coho quota from the Neah Bay subarea to the La Push subarea on an impact neutral basis. The STT calculated that removing 1,000 coho from Neah Bay would achieve an effective transfer of 850 coho to La Push.

Inseason action #25 superseded inseason action #20 to allow retention of one Chinook salmon per day per angler in the recreational fishery north of Cape Falcon, effective September 5, 2011.

On August 31, 2011, the states recommended these actions and the RA concurred. Inseason action #24 took effect immediately. Inseason action #25 took effect September 5, 2011. Modification of quota and/or fishing seasons is authorized by 50 CFR 660.409(b)(1)(i). Modification of recreational bag limits is authorized by 50 CFR 660.409(b)(1)(iii).

Inseason Action #26

The RA consulted with representatives of the Council, ODFW, and CDFG on September 6, 2011. The information considered during this consultation related to catch of coho salmon to date and coho salmon catch rates compared to quotas and other management measures established preseason for the recreational salmon fishery south of Cape Falcon. At the time of the consultation, catch data for September 1 through 5 indicated that catch per unit effort was greatly exceeding expectations and exceeding the quota would likely occur due to the time needed to notify the public of further inseason action. Inseason action was necessary to limit the amount by which the quota would be exceeded.

Inseason action #26 modified the recreational salmon fishery from Cape Falcon to Humbug Mountain, Oregon. The non-mark-selective coho fishery was closed at 11:59 p.m. (midnight), September 7, 2011; the all salmon except coho fishery resumed on September 8, 2011. On September 6, 2011, the states recommended this action and the RA concurred. Modification of quota and/or fishing seasons is authorized by 50 CFR 660.409(b)(1)(i). Modification of recreational bag limits is authorized by 50 CFR 660.409(b)(1)(iii).

All other restrictions and regulations remain in effect as announced for the 2011 Ocean Salmon Fisheries and previous inseason actions.

The RA determined that the best available information indicated that the catch and effort data, and projections, supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number (206) 526-6667 and (800) 662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (76 FR 25246, May 4, 2011), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to ensure that fisheries are managed based on the best available scientific information, thus allowing fishers access to the available fish at the time the fish were available while ensuring that quotas are not exceeded. The AA also finds good cause to waive the 30-day delay in effectiveness required under 5 U.S.C. 553(d)(3), as a delay in effectiveness of these actions would allow fishing at levels inconsistent with the goals of the Salmon Fishery Management Plan and the current management measures.

These actions are authorized by 50 CFR 660.409 and 660.411 and are exempt from review under Executive Order 12866.

Authority: 16 U.S.C. 1801 et seq.

Dated: November 1, 2011.
Steven Thur,
Acting Director, Office of Sustainable Fisheries, National Marine Fisheries Service.

[FR Doc. 2011-28663 Filed 11-3-11; 8:45 am]

BILLING CODE 3510-22-P